DEPARTMENT OF TRANSPORTATION

Pipeline and Hazardous Materials Safety Administration

[Docket No.: PHMSA-2018-0004; Notice No. 2018-04]

Hazardous Materials: Public Meeting Notice for the Research and Development Forum

AGENCY: Pipeline and Hazardous Materials Safety Administration (PHMSA), DOT.

ACTION: Notice of public meeting.

SUMMARY: This notice is designed to inform the interested public that the Office of Hazardous Materials Safety (OHMS) of the Pipeline and Hazardous Materials Safety Administration (PHMSA) will hold a public Research and Development Forum that will be held May 16 and 17, 2018, in Washington, DC. OHMS will host the forum to present the results of recently completed projects, brief new project plans with stakeholder input, and discuss the direction of current and future research projects.

During the meeting, OHMS will solicit comments related to new research topics that may be considered for inclusion in its future work. OHMS also reviews research needs statements from industry, academia, and other stakeholders. OHMS is particularly interested in the research gaps associated with energetic materials characterization and transport, safe transport of energy products, safe containment and transportation of compressed gasses, safe packaging and transportation of charge storage devices, and others. One focus will be a discussion on the safety gaps recently identified in a 2017 cooperative research report completed by the National Academy of Sciences titled “Safely Transporting Hazardous Liquids and Gases in a Changing U.S. Energy Landscape.” The identification of other research gaps related to the transportation of hazardous materials will be encouraged in an effort to meet the holistic needs of the transportation community and the U.S. Department of Transportation's (DOT) strategic goals: Safety, investment in infrastructure, innovation and accountability.

DATES: May 16 and 17, 2018 from 8:30 a.m. to 4:30 p.m. Eastern Standard Time on both days.

ADDRESSES: The meeting will be held at the National Transportation Safety Board Boardroom and Conference Center at 420 10th Street SW, Washington, DC 20594.

Registration: The DOT requests that attendees pre-register for these meetings by completing the form at https://www.surveymonkey.com/r/P7CMR3R.

Conference call-in and “live meeting” capability will be provided. Specific information about conference call-in and live meeting access will be posted, when available, at: https://www.phmsa.dot.gov/research-and-development/hazmat/rd-meetings-and-events under “Upcoming Events.”

FOR FURTHER INFORMATION CONTACT: Eva Rodezno or Rick Boyle, Office of Hazardous Materials Safety, Research and Development, Pipeline and Hazardous Materials Safety Administration, U.S. Department of Transportation, Washington, DC. Telephone: (202) 366-8799 and (202) 366-2993. Email: eva.rodezno@dot.gov or rick.boyle@dot.gov.

Signed on April 19, 2018 in Washington, DC.
William S. Schoonover,
Associate Administrator for Hazardous Materials Safety.

[FR Doc. 2018-08586 Filed 4-24-18; 8:45 am]

BILLING CODE 4910-60-P